DEPARTMENT OF TRANSPORTATION

Federal Aviation Administration

14 CFR Part 39

[Docket No. FAA-2009-0328; Directorate Identifier 2008-NE-44-AD; Amendment 39-16161; AD 2010-01-04]

RIN 2120-AA64

Airworthiness Directives; General Electric Company (GE) CF34-1A, CF34-3A, and CF34-3B Series Turbofan Engines; Correction

AGENCY: Federal Aviation Administration, DOT.

ACTION: Final rule; correction.

SUMMARY: The FAA is correcting airworthiness directive (AD) 2010-01-04, which published in the Federal Register. That AD applies to GE CF34-1A, CF34-3A, and CF34-3B series turbofan engines. The docket number is incorrect in all three of its locations. This document corrects those references. In all other respects, the original document remains the same.

DATES: Effective April 30, 2010.

FOR FURTHER INFORMATION CONTACT: John Frost, Aerospace Engineer, Engine Certification Office, FAA, Engine & Propeller Directorate, 12 New England Executive Park, Burlington, MA 01803; phone: (781) 238-7756; fax: (781) 238-7199.

SUPPLEMENTARY INFORMATION: On January 8, 2010 (75 FR 1017), we published a final rule AD, FR Doc. E9-31274, in the Federal Register. That AD applies to GE CF34-1A, CF34-3A, and CF34-3B series turbofan engines. We need to make the following correction:

§ 39.13 [Corrected]

On page 1017, in the first column, under 14 CFR Part 39, “Docket No. FAA-2008-0328” is corrected to read “Docket No. FAA-2009-0328”.

On page 1018, in the first column, under Comments Invited, starting in the ninth line, “Docket No. FAA-2008-0328” is corrected to read “Docket No. FAA-2009-0328”.

On page 1018, in the third column, under § 39.13 [Amended], starting in the eighth line, “Docket No. FAA-2008-0328” is corrected to read “Docket No. FAA-2009-0328”.

Issued in Burlington, Massachusetts, on April 23, 2010.
Peter A. White,
Assistant Manager, Engine and Propeller Directorate, Aircraft Certification Service.

[FR Doc. 2010-9962 Filed 4-29-10; 8:45 am]

BILLING CODE 4910-13-P